DEPARTMENT OF ENERGY

Federal Energy Regulatory Commission

[Project No. 2210-207]

Appalachian Power Company; Notice of Designation of Certain Commission Personnel as Non-Decisional

Commission staff members Jon Cofrancesco (Office of Energy Projects (202) 502-8951; jon.cofrancesco@ferc.gov) and Elizabeth Molloy (Office of the General Counsel; (202) 502-8771; elizabeth.molloy@ferc.gov) are assigned to help resolve issues associated with development of a settlement agreement for the Smith Mountain 2011 updated Shoreline Management Plan.

As “non-decisional” staff, Mr. Cofrancesco and Ms. Molloy will not participate in an advisory capacity in the Commission's review of any offer of settlement or settlement agreement, or deliberations concerning the disposition of the 2011 updated Shoreline Management Plan.

Different Commission “advisory staff” will be assigned to review any offer of settlement or settlement agreement, and to process the 2011 updated Shoreline Management Plan, including providing advice to the Commission with respect to the agreement and the plan. Non-decisional staff and advisory staff are prohibited from communicating with one another concerning the settlement and the 2011 updated Shoreline Management Plan.

Dated: December 9, 2011.
Kimberly D. Bose,
Secretary.

[FR Doc. 2011-32374 Filed 12-16-11; 8:45 am]

BILLING CODE 6717-01-P